DEPARTMENT OF ENERGY

Federal Energy Regulatory Commission

[Project No. 11685-001]

The Stockport Mill County Inn; Notice Rescinding Prior Notice (May 23, 2000); Notice of Application Ready for Environmental Analysis and Soliciting Comments, Recommendations, Terms and Conditions, and Prescriptions

May 31, 2000.

On May 23, 2000, a notice of application ready for environmental analysis and soliciting comments, recommendations, terms and conditions, and prescriptions was issued for the Stockport Mill Country Inn Water Power Project No. 11685. On April 11, 2000, a notice of application ready for environmental analysis and soliciting comments, recommendations, terms and conditions, and prescriptions was also issued for the Stockport Mill Country Inn Water Power Project. Since two identical notices were issued for the same project and applicant, the notice issued on May 23, 2000 (65 FR 34462, published May 30, 2000), is rescinded.

The deadline for filing comments, recommendations, terms and conditions, and prescriptions is June 12, 2000.

Linwood A. Watson, Jr.,
Acting Secretary.

[FR Doc. 00-14081 Filed 6-5-00; 8:45 am]

BILLING CODE 6717-01-M